NUCLEAR REGULATORY COMMISSION

[Docket Nos. 50-255-LT-2, 50-155-LT-2, 72-007-LT, 72-043-LT-2, ASLBP No. 22-974-01-LT-BD01]

Order; Amending Notice of Hearing

On January 19, 2023 this Board provided notice of an oral hearing in this proceeding to commence on February 8, 2023.¹ Due to the fact the testimony will focus on proprietary information regarding whether the companies satisfy financial qualification requirements for a license transfer under 10 CFR 50.33(f), the hearing will be closed to the public.

¹ Licensing Board Order (Providing Notice of Hearing) at 3 (Jan. 19, 2023) (unpublished).

It is so ordered.

For the Atomic Safety And Licensing Board.
Dated: January 23, 2023.
Michael M. Gibson,
Presiding Officer, Administrative Judge.

[FR Doc. 2023-01565 Filed 1-26-23; 8:45 am]

BILLING CODE 7590-01-P